DEPARTMENT OF HEALTH AND HUMAN SERVICES

Health Resources and Services Administration

State Grants for Traumatic Brain Injury

AGENCY: Health Resources and Services Administration, HHS.

ACTION: Notice of availability of funds.

SUMMARY: The Health Resources and Services Administration (HRSA) announces that about $1.2 million in fiscal year (FY) 2001 funds is available for up to 14 State Grants for Traumatic Brain Injury (TBI) awards. Grant programs for TBI provide health and other services for people who have sustained a traumatic brain injury. Awards will be made in two categories—Planning Grants, to assist States in developing the infrastructure needed to implement a State TBI program; and a new category of Post Demonstration Grants for States which have successfully completed a TBI Implementation Grant. All grants will be made under the program authority of the Public Health Service Act, Title XII, Section 1252 (42 U.S.C. 300d-52), as amended, and will be administered by the Maternal and Child Health Bureau (MCHB), HRSA. Awards for TBI Planning Grants (CFDA #93.234B) may be approved for up to two years, and range from $50,000 to $75,000. Awards for TBI Post Demonstration Grants (CFDA #93.234C) are available for only one year, in amounts up to $100,000. Funding for these grant categories beyond FY 2001 is contingent upon the availability of funds.

DATES: Entities which intend to submit an application for this grant program are expected to notify MCHB's Division of their intent by June 18, 2001. The deadline for receipt of applications is July 16, 2001. Applications will be considered “on time” if they are either received on or before the deadline date or postmarked on or before the deadline date. The projected award date is September 29, 2001.

ADDRESSES: To receive a complete application kit, applicants may telephone the HRSA Grants Application Center at 1-877-477-2123 (1-877-HRSA-123) beginning June 4, 2001, or register on-line at: http://www.hrsa.gov/_order3.htm directly. The Traumatic Brain Injury State Grant Program uses the standard Form PHS 5161-1 (rev. 7/00) for applications (approved under OMB No. 0920-0428). Applicants must use Catalog of Federal Domestic Assistance (CFDA) #93.234B when requesting an application kit. The CFDA is a Government-wide compendium of enumerated Federal programs, project services, and activities which provide assistance. All applications must be mailed or delivered to Grants Management Officer, MCHB: HRSA Grants Application Center, 1815 N. Fort Meyer Drive, Suite 300, Arlington , Virginia 22209: telephone 1-877-477-2123: E-mail: hrsagac@hrsa.gov.

Necessary application forms and an expanded version of this Federal Register notice may be downloaded in either Microsoft Office 2000 or Adobe Acrobat format (.pdf) from the MCHB Home Page at http://www.mchb.hrsa.gov. Please contact Joni Johns, at 301/443-2088, or jjohns@hrsa.gov/, if you need technical assistance in accessing the MCHB Home Page via the Internet.

This notice will appear in the Federal Register and or HRSA Home Page at http://www.hrsa.dhhs.gov/. Federal Register notices are found on the World Wide Web by following instructions at: http://www.access.gpo.gov/su_docs/aces/aces140.html.

Letter of Intent: Notification of intent to apply should be directed to Betty Hastings, M.S.W., by email, bhastings@hrsa.gov/; or mail, MCHB, HRSA; Division of Child, Adolescent and Family Health, Parklawn Building, Room 18A-38; 5600 Fishers Lane; Rockville, MD 20857.

FOR FURTHER INFORMATION CONTACT: Betty Hastings, M.S.W., 301/443-5599, or email: bhastings@hrsa.gov/ (for questions specific to project objectives and activities of the program; or the required Letter of Intent); Marilyn Stewart, 301/443-1440, email mstewart@hrsa.gov/ (for grants policy, budgetary, and business questions).

SUPPLEMENTARY INFORMATION: Traumatic brain injury (i.e., cranio-cerebral head trauma) is an occurrence of injury to the head arising from blunt or penetrating trauma or from acceleration-deceleration forces that is associated with any of these symptoms or signs attributed to the injury: Decreased level of consciousness, amnesia, other neurologic or neuropsychologic abnormalities, skull fracture, diagnosed intracranial lesions, or death.

Motor vehicle crashes, falls, violence, and sports injuries are the major causes of TBI; the number one killer and cause of disability for young people in the United States. The Centers of Disease Control and Prevention has found that approximately 5.3 million Americans live with the effects of TBI. About half the estimated 1.9 million Americans who experience TBI each year incur at least short-term disability; 52,000 people die as a result of their injuries and more than 90,000 people sustain severe brain injuries leading to debilitating loss of function. The direct medical costs for treatment of TBI have been estimated at more than $4 billion annually.

In 1996, Public Law 104-166 established a program of grants to States to carry out TBI demonstration projects to increase access to rehabilitation, employment, education, and other long-term community support services, in addition to health and medical services.

State Grants for TBI support projects by States to implement statewide systems, ensuring access to comprehensive and coordinated TBI Services. These projects are successfully bringing together representatives of relevant State agencies, disciplines, organizations, and consumers.

Until FY 2001, two categories of TBI demonstration grant programs were available—State TBI Planning Grants and State TBI Implementation Grants. To date, 31 States and the District of Columbia have received basic planning support to establish the necessary infrastructure core capacity components needed to develop an Action Plan to improve the State's TBI service system. State TBI planning grantees develop four “core capacity” components, identified as the essential elements in any plan for State implementation of a TBI service system. These include: (1) A statewide TBI Advisory Board; (2) Designated State agency and staff position(s) responsible for State TBI activities; (3) a statewide needs/resource assessment to address the full spectrum of services from initial acute treatment through rehabilitation and long-term community services for individuals with TBI; and (4) a statewide Action Plan to develop a comprehensive, community-based system of care that encompasses physical, psychological, educational, vocational, and social aspects of TBI services. This Action Plan must also address the needs of individuals with TBI and their families.

State TBI Implementation Grants have been used to help States move toward a statewide system that will assure access to comprehensive and coordinated services for people with TBI. Through implementation grants, States focus on the key priorities identified in their statewide action plans. Since FY 1997, 26 States have received Implementation Grants, which have addressed the following initiatives within the program: (1) Leadership in integrating individuals with TBI and their families into the broader service delivery system; (2) Human resources, personnel, training, and education on TBI issues; (3) Data collection, evaluation, and information management to improve delivery of TBI services; (4) Public information and education regarding TBI issues; (5) and Coordination with other public health and disability community services.

As part of the reauthorization of the TBI program, in the Children's Health Act of 2000, a third grant category has been established—Post Demonstration Grants for States which have successfully completed a TBI Implementation Grant. The purpose of these grants is to continue the systems development efforts begun by an Implementation Grant. These new grants will address issues that will encompass specific State capacity building initiatives to contribute to sustainable change in the system of community services and supports that reflect the best practices in the field of traumatic brain injury.

This Notices announces availability of funds only for TBI Planning Grants and TBI Post Demonstration Grants. No awards will be made through the Notice for TBI Implementation Grants in FY 2001.

Authorization: Public Health Service Act, Title XII, Section 1252, 42 U.S.C. 300d-52, as amended by Public Law 106-310, Section 1304.

Purpose: The purpose of the TBI grant program is to improve access, availability, appropriateness and the acceptability of health and other services for people who have sustained a traumatic brain injury (TBI) and their families, through funding systems change initiatives. State TBI Planning Grants provide funds to assist States in developing infrastructure in the four identified “core capacity” components identified above. State TBI Post Demonstration Grants provide funds for capacity-building initiatives to contribute to sustainable change in their systems of community services and supports that reflect best practices.

Eligibility: For all TBI grants, State governments are the only eligible applicants for funding. It is understood that applications for a TBI Post-Demonstration Grant will come from the State agency designated as the lead for TBI services; the State must have completed a three-year State TBI Implementation Demonstration Grant.

Funding Level/Project Period: Approximately $525,000 is available in FY 2001 to support seven State TBI State Planning awards, at $75,000 per award, for project periods of up to two years. Approximately $700,000 is available in FY 2001 to support seven TBI State Post Demonstration awards, at $100,000 per award, for a one-year project period. For each award, the State must contribute, in cash or in kind (including plant, equipment and services), not less than $1 for each $2 of Federal funds provided under the TBI State Grants. Amounts provided by the Federal Government, or services assisted or subsidized to any significant extent by the Federal Government, may not be included in the amount of such contributions.

The initial budget period for TBI Planning Grants is expected to be 12 months, with any subsequent budget period being 12 months. Continuation of any TBI project from one budget period to the next is subject to satisfactory performance, availability of funds, and program priorities.

Review Criteria: Applications will be reviewed using criteria covering the following areas:

(1) State Planning Grants:

(a) The strength of the plan to develop a statewide Advisory Board.

(b) The adequacy of the State's methodology to develop the four “core capacity” components.

(c) The comprehensiveness of the approach to collaboration and partnership.

(d) The adequacy of the organizational and management plan.

(2) Post Demonstration Grants:

(a) The capabilities of the designated State lead agency.

(b) The adequacy of the involvement of the statewide Advisory Board.

(c) The strength of the statewide TBI Action Plan in addressing community services and supports that reflect the best practice in the field of traumatic brain injury.

(d) The State's capacity building efforts.

Final criteria used to review and rank applications for this competition are included in the application kit. Applicants should pay strict attention to addressing these criteria, as they are the basis upon which their applications will be judged.

Executive Order 12372: This program has been determined to be a program which is subject to the provisions of Executive Order 12372 concerning intergovernmental review of Federal programs by appropriate health planning agencies, as implemented by 45 CFR Part 100. Executive Order 12372 allows States the option of setting up a system for reviewing applications from within their States for assistance under certain Federal programs. The application packages to be made available under this notice will contain a listing of States which have chosen to set up such a review system and will provide a single point of contact (SPOC) in the States for review. Applicants (other than federally-recognized Indian tribal governments) should contact their State SPOCs as early as possible to alert them to the prospective applications and receive any necessary instructions on the State process. For proposed projects serving more than one State, the applicant is advised to contact the SPOC of each affected State. The due date for State process recommendations is 60 days after the application deadline for new and competing awards. The granting agency does not guarantee to “accommodate or explain” for State process recommendations it receives after that date. (See Part 148, Intergovernmental Review of PHS Programs under Executive Order 12372 and 45 CFR Part 100 for a description of the review process and requirements).

Dated: May 31, 2001.
Elizabeth M. Duke,
Acting Administrator.

[FR Doc. 01-14455 Filed 6-7-01; 8:45 am]

BILLING CODE 4160-15-U